ENVIRONMENTAL PROTECTION AGENCY

[EPA-HQ-OPPT-2012-0724; FRL-9902-45]

Antimony Trioxide (ATO) TSCA Chemical Risk Assessment; Notice of Public Meetings and Opportunity To Comment

AGENCY: Environmental Protection Agency (EPA).

ACTION: Notice.

SUMMARY: On September 27, 2013, EPA announced that it would be holding three peer review meetings by web connect and teleconference on October 16, 2013, October 31, 2013, and November 14, 2013, regarding EPA's draft Toxic Substances Control Act (TSCA) chemical risk assessment, “TSCA Workplan Chemical Risk Assessment for ATO.” Due to the government shutdown, however, EPA has rescheduled the peer review meetings and is announcing the rescheduled meetings in this notice. EPA is also extending the due date for public comments.

DATES: Meetings. The peer review meetings will be held on Wednesday, November 13, 2013, from 10 a.m. to noon EST; Friday, December 6, 2013, from 11:30 a.m. to 4:30 p.m. EST; and Monday, January 6, 2014, from 11 a.m. to 1 p.m. EST.

Comments. Written comments on the assessment must be submitted on or before December 16, 2013.

ADDRESSES: Submit your comments, identified by docket identification (ID) number EPA-HQ-OPPT-2012-0724, by one of the methods described in the September 27, 2013 Federal Register notice, a copy of which is available in the docket at http://www.regulations.gov.

FOR FURTHER INFORMATION CONTACT: For technical information contact: Stan Barone, Jr., Risk Assessment Division (7403M), Office of Pollution Prevention and Toxics, Environmental Protection Agency, 1200 Pennsylvania Ave. NW., Washington, DC 20460-0001; telephone number: (202) 564-1169; email address: barone.stan@epa.gov.

For peer review meeting logistics contact: Susie Warner, the Scientific Consulting Group (SCG), Inc., 656 Quince Orchard Rd., Suite 210, Gaithersburg, MD 20878-1409; telephone number: (301) 670-4990, ext. 227; fax number: (301) 670-3815; email address: SWARNER@scgcorp.com.

SUPPLEMENTARY INFORMATION: For details about the meetings regarding the peer review of EPA's draft Toxic Substances Control Act (TSCA) chemical risk assessment, “TSCA Workplan Chemical Risk Assessment for ATO,” please see the announcement that published in the Federal Register of September 27, 2013 (78 FR 59679) (FRL-9400-5). However, due to the government shutdown, EPA has rescheduled the three peer review meetings and is announcing the rescheduled meetings in this notice. EPA is also extending the due date for public comments. To be sure your comments are contained in the peer review record and are available to the peer reviewers; please submit the comments on or before December 16, 2013.

The first rescheduled peer review panel meeting on November 13, 2013, will be devoted to providing the peer review panel an overview of the assessment and its charge and providing an opportunity for public comment on the draft ATO TSCA risk assessment.

The rescheduled second peer review panel meeting on December 6, 2013, will be devoted to deliberations of the draft ATO TSCA risk assessment by the peer review panel, guided by the charge questions to the peer review panel.

The third and final peer review panel meeting on January 6, 2014, will focus on the peer review panel's discussion of its draft ATO TSCA risk assessment recommendations to EPA, which will be posted on the contractor Web site prior to the final peer review meeting.

List of Subjects

Environmental protection, ATO, Chemicals, Flame retardant synergist. Peer review, Risk assessments.

Dated: October 31, 2013.
Jeffrey T. Morris,
Acting Director, Office of Pollution Prevention and Toxics.

[FR Doc. 2013-26846 Filed 11-5-13; 4:15 pm]

BILLING CODE 6560-50-P